DEPARTMENT OF COMMERCE

International Trade Administration

[A-580-841]

Notice of Amended Final Antidumping Duty Administrative Review: Stainless Steel Plate in Coils from the Republic of Korea

AGENCY: Import Administration, International Trade Administration, Department of Commerce.

ACTION: Notice of amended final results of antidumping duty administrative review of stainless steel plate in coils from the Republic of Korea.

EFFECTIVE DATE: April 23, 2002.

FOR FURTHER INFORMATION CONTACT: Brandon Farlander and Robert Bolling, AD/CVD Enforcement Group III, Office 9, Import Administration, International Trade Administration, U.S. Department of Commerce, 14th Street and Constitution Avenue, N.W., Washington, DC 20230; telephone: (202) 482-0182 and (202) 482-3434, respectively.

SUPPLEMENTARY INFORMATION:

The Applicable Statute and Regulations

Unless otherwise indicated, all citations to the Tariff Act of 1930, as amended (“the Act”), are references to the provisions effective January 1, 1995, the effective date of the amendments made to the Act by the Uruguay Round Agreements Act (“URAA”). In addition, unless otherwise indicated, all citations to the Department's regulations are to the regulations codified at 19 C.F.R. Part 351 (2001).

Scope of the Review

For purposes of this administrative review, the product covered by this order is certain stainless steel plate in coils. Stainless steel is an alloy steel containing, by weight, 1.2 percent or less of carbon and 10.5 percent or more of chromium, with or without other elements. The subject plate products are flat-rolled products, 254 mm or over in width and 4.75 mm or more in thickness, in coils, and annealed or otherwise heat treated and pickled or otherwise descaled. The subject plate may also be further processed (e.g., cold-rolled, polished, etc.) provided that it maintains the specified dimensions of plate following such processing. Excluded from the scope of this order is the following: (1) Plate not in coils, (2) plate that is not annealed or otherwise heat treated and pickled or otherwise descaled, (3) sheet and strip, and (4) flat bars. In addition, certain cold-rolled stainless steel plate in coils is also excluded from the scope of this order. The excluded cold-rolled stainless steel plate in coils is defined as that merchandise which meets the physical characteristics described above that has undergone a cold-reduction process that reduced the thickness of the steel by 25 percent or more, and has been annealed and pickled after this cold reduction process.

The merchandise subject to this order is currently classifiable in the Harmonized Tariff Schedule of the United States (HTS) at subheadings: 7219.11.00.30, 7219.11.00.60, 7219.12.00.06, 7219.12.00.21, 7219.12.00.26, 7219.12.00.51, 7219.12.00.56, 7219.12.00.66, 7219.12.00.71, 7219.12.00.81, 7219.90.00.10, 7219.90.00.20, 7219.90.00.25, 7219.90.00.60, 7219.90.00.80, 7220.11.00.00, 7220.90.00.10, 7220.90.00.15, 7220.90.00.60, and 7220.90.00.80. Although the HTS subheadings are provided for convenience and Customs purposes, the written description of the scope of the orders is dispositive.

Amendment of Final Results

On December 4, 2001, the Department of Commerce (“the Department”) issued its final results for the administrative review of the antidumping duty order on stainless steel plate in coils from the Republic of Korea for the November 4, 1998, through April 30, 2000, period of review. See Stainless Steel Plate in Coils From the Republic of Korea; Final Results of Antidumping Duty Administrative Review (“Final Results”), 66 FR 64017 (December 11, 2001).

Interested parties did not file any ministerial error comments on the Final Results. However, the Department discovered that it unintentionally stated that the all others rate is the rate determined in the original less-than-fair value (“LTFV”) investigation, rather than the all others rate determined in the amended final determination of the LTFV investigation. See Notice of Amendment of Final Determinations of Sales at Less Than Fair Value: Stainless Steel Plate in Coils From the Republic of Korea; and Stainless Steel Sheet and Strip in Coils From the Republic of Korea (“Amended Final Determinations”), 66 FR 45279 (August 28, 2001).

Our Final Results erroneously stated that the “all others rate” applicable to exporters or manufacturers who have not been covered in this review or investigated in the original LTFV investigation is 16.26 percent rather than the 6.08 percent established in the Amended Final Determinations. Thus, the correct all others rate is the all others rate established in the Amended Final Determinations.

The Department's regulations define a ministerial error as an “error in addition, subtraction, or other arithmetic function, clerical error resulting from inaccurate copying, duplication, or the like, and any other similar type of unintentional error which the Secretary considers ministerial,” citing 19 CFR 351.224(f). Therefore, the Department notes that it is now correcting this ministerial error and stating that the correct all others rate is 6.08 percent, in accordance with the Amended Final Determinations.

Therefore, we are amending the final results of the antidumping duty administrative review of stainless steel plate in coils from the Republic of Korea to reflect the correction of the above-cited ministerial error.

No other changes have been made to the cash deposit requirements provided in the Final Results.

We are issuing and publishing this determination and notice in accordance with sections 751(a)(1) and 777(i) of the Act.

Dated: April 12, 2002
Faryar Shirzad,
Assistant Secretary for Import Administration.

[FR Doc. 02-9916 Filed 4-22-02; 8:45 am]

BILLING CODE 3510-DS-S